DEPARTMENT OF TRANSPORTATION

Surface Transportation Board

[STB Finance Docket No. 33924]

Arthur J. Fournier—Continuance in Control Exemption—Sandusky River Railroad Company, Inc.

Arthur J. Fournier (Fournier), an individual, has filed a verified notice of exemption to continue in control of the Sandusky River Railroad Company, Inc. (SRRC), upon SRRC's becoming a Class III railroad.

The parties report that they intend for the exemption to take effect upon expiration of the notice period prescribed by 49 CFR 1180.4(g)(i). The earliest the transaction can be consummated is September 8, 2000, 7 days after the exemption was filed.

This transaction is related to STB Finance Docket No. 33923, Sandusky River Railroad Company, Inc.—Acquisition and Operation Exemption—Norfolk Southern Railway Company, wherein SRRC seeks to acquire from Norfolk Southern Railway Company and operate an approximate 7.47-mile rail line in Freemont, Sandusky County, OH.

Fournier currently controls one existing Class III railroad: Flats Industrial Railroad Company (FIRC), operating in the State of Ohio.

Fournier states that (i) SRRC does not connect with FIRC, (ii) the transaction is not part of a series of transactions that would connect SRRC with FIRC, and (iii) the transaction does not involve a Class I carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statute, may not impose labor protective conditions for this transaction.

If the notice contains false or misleading information, the exemption is void ab initio. Petitions to revoke the exemption under 49 U.S.C. 10502(d) may be filed at any time. The filing of a petition to revoke will not automatically stay the transaction.

An original and 10 copies of all pleadings, referring to STB Finance Docket No. 33924, must be filed with the Surface Transportation Board, Office of the Secretary, Case Control Unit, 1925 K Street, NW., Washington, DC 20423-0001. In addition, a copy of each pleading must be served on Kelvin J. Dowd, Esq., Slover & Loftus, 1224 Seventeenth Street, NW., Washington, DC 20036.

Board decisions and notices are available on our website at “WWW.STB.DOT.GOV.”

Decided: September 7, 2000.
By the Board, David M. Konschnik, Director, Office of Proceedings.
Vernon A. Williams,
Secretary.

[FR Doc. 00-23660 Filed 9-13-00; 8:45 am]

BILLING CODE 4915-00-P